DEPARTMENT OF ENERGY

Federal Energy Regulatory Commission

Combined Notice of Filings #1

Take notice that the Commission received the following electric rate filings:

Docket Numbers: ER10-2172-005; ER10-2174-005; ER10-2176-005; ER10-2180-005; ER10-2178-005; ER10-2192-005; ER10-2184-005; ER10-2183-003; ER10-3308-005; ER10-2281-005; ER10-2780-001.

Applicants: Constellation Energy Commodities Group, Constellation NewEnergy, Inc., Baltimore Gas and Electric Company, Constellation Power Source Generation Inc., CER Generation II, LLC, Safe Harbor Water Power Corporation, Handsome Lake Energy, LLC, CER Generation, LLC, Constellation Energy Commodities Group Maine, LLC, Constellation Mystic Power, LLC, Criterion Power Partners, LLC.

Description: Notice of Change in Status of Baltimore Gas and Electric Company, et al.

Filed Date: 08/19/2011.

Accession Number: 20110819-5092.

Comment Date: 5 p.m. Eastern Time on Friday, September 09, 2011.

Docket Numbers: ER10-2179-006; ER10-2181-006; ER10-2182-006.

Applicants: R.E. Ginna Nuclear Power Plant, LLC, Calvert Cliffs Nuclear Power Plant, LLC, Nine Mile Point Nuclear Station, LLC.

Description: Notice of Change in Status of Calvert Cliffs Nuclear Power Plant, LLC, et al.

Filed Date: 08/19/2011.

Accession Number: 20110819-5091.

Comment Date: 5 p.m. Eastern Time on Friday, September 09, 2011.

Docket Numbers: ER11-2201-003; ER10-2462-001; ER10-2466-001.

Applicants: Evergreen Wind Power III, LLC, Evergreen Wind Power V, LLC, Stetson Wind II, LLC.

Description: First Wind Holdings, LLC submits Notification of Non-material Change in Status by Evergreen Wind Power III, LLC, Evergreen Wind Power V, LLC and Stetson Wind II, LLC.

Filed Date: 08/18/2011.

Accession Number: 20110818-5116.

Comment Date: 5 p.m. Eastern Time on Thursday, September 08, 2011.

Docket Numbers: ER11-3859-002; ER11-3864-002; ER11-3866-002; ER11-3867-002; ER11-3857-002.

Applicants: Milford Power Company, LLC, MASSPOWER, Lake Road Generating Company, L.P., EquiPower Resources Management, LLC, Dighton Power, LLC.

Description: Notice of Change in Status for ECP II MBR Sellers.

Filed Date: 08/19/2011.

Accession Number: 20110819-5079.

Comment Date: 5 p.m. Eastern Time on Friday, September 09, 2011.

Docket Numbers: ER11-3986-001.

Applicants: Southwest Power Pool, Inc.

Description: Southwest Power Pool, Inc. submits tariff filing per 35.17(b): Amendment to 1765R4 KCPL-GMO NITSA NOA to be effective 6/1/2011.

Filed Date: 08/19/2011.

Accession Number: 20110819-5035.

Comment Date: 5 p.m. Eastern Time on Friday, September 09, 2011.

Docket Numbers: ER11-4264-001.

Applicants: New England Power Company.

Description: New England Power Company submits tariff filing per 35: Errata to Filing to Implement Settlement Agreement to be effective 3/31/2011.

Filed Date: 08/19/2011.

Accession Number: 20110819-5056.

Comment Date: 5 p.m. Eastern Time on Friday, September 09, 2011.

Docket Numbers: ER11-4335-000.

Applicants: Midwest Independent Transmission System Operator, Inc.

Description: Midwest Independent Transmission System Operator, Inc. submits tariff filing per 35.13(a)(2)(iii: G749 GIA Termination to be effective 10/18/2011.

Filed Date: 08/18/2011.

Accession Number: 20110818-5100.

Comment Date: 5 p.m. Eastern Time on Thursday, September 08, 2011.

Take notice that the Commission received the following land acquisition reports:

Docket Numbers: LA11-2-000.

Applicants: Portland General Electric Company.

Description: Refiling of the Quarterly Site Acquisition Report of Portland General Electric Company to more clearly identify the geographic market.

Filed Date: 08/19/2011.

Accession Number: 20110819-5031.

Comment Date: 5 p.m. Eastern Time on Friday, September 09, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2011.
Nathaniel J. Davis, Sr.,
Deputy Secretary.

[FR Doc. 2011-22000 Filed 8-26-11; 8:45 am]

BILLING CODE 6717-01-P